FEDERAL COMMUNICATIONS COMMISSION

[Report No. AUC-01-31-D (Auction No. 31); DA 01-2394]

Auction of Licenses for 747-762 and 777-792 MHz Bands (Auction No. 31) Scheduled for June 19, 2002

AGENCY: Federal Communications Commission.

ACTION: Notice.

SUMMARY: This document announces that Auction No. 31 is scheduled for June 19, 2002 and provides important dates and deadlines for pre-auction events.

DATES: Auction No. 31 is scheduled for June 19, 2002.

FOR FURTHER INFORMATION CONTACT: Craig Bomberger, Auctions Operations Branch; Howard Davenport, Legal Branch at (202) 418-0660; or Lisa Stover, Auctions Operations Branch at (717) 338-2888.

SUPPLEMENTARY INFORMATION: This is a summary of a Public Notice released October 15, 2001. The complete text of the Public Notice is available for public inspection and copying during regular business hours at the FCC Reference Information Center, Portals II, 445 12th Street, SW, Room CY-A257, Washington, DC, 20554. The Public Notice may also be purchased from the Commission's duplicating contractor, Qualex International, Portals II, 445 12th Street, SW, Room CY-B402, Washington, DC, 20554, telephone 202-863-2893, facsimile 202-863-2898, or via e-mail qualexint@aol.com.

By the Public Notice, the Wireless Telecommunications Bureau announces that the auction of licenses for 747-762 and 777-792 MHz bands (Auction No. 31) is scheduled to begin June 19, 2002. The dates and deadlines for important pre-auction events are provided.

Pre-Auction Seminar: April 30, 2002

Short-Form Application (FCC Form 175) Filing Window Opens: April 30, 2002

Short-Form Application (FCC Form 175) Deadline: May 8, 2002

Upfront Payments Deadline: May 28, 2002

Mock Auction: June 14, 2002

Auction Start Date: June 19, 2002

Federal Communications Commission.
Margaret Wiener,
Chief, Auctions and Industry Analysis Division, WTB.

[FR Doc. 01-27228 Filed 10-29-01; 8:45 am]

BILLING CODE 6712-01-P